DEPARTMENT OF COMMERCE

Foreign-Trade Zones Board

[S-32-2020]

Foreign-Trade Zone 27—Boston, Massachusetts, Application for Subzone, Waters Technologies Corporation, Milford, Massachusetts

An application has been submitted to the Foreign-Trade Zones Board (the Board) by the Massachusetts Port Authority, grantee of FTZ 27, requesting subzone status for the facility of Waters Technologies Corporation, located in Milford, Massachusetts. The application was submitted pursuant to the provisions of the Foreign-Trade Zones Act, as amended (19 U.S.C. 81a-81u), and the regulations of the Board (15 CFR part 400). It was formally docketed on February 18, 2020.

The proposed subzone (44.66 acres) is located at 34 Maple Street and 5 Technology Drive, Milford. A notification of proposed production activity has been submitted and is being processed under 15 CFR 400.37 (Doc. B-76-2019). The proposed subzone would be subject to the existing 129-acre activation limit of FTZ 27.

In accordance with the Board's regulations, Elizabeth Whiteman of the FTZ Staff is designated examiner to review the application and make recommendations to the Executive Secretary.

Public comment is invited from interested parties. Submissions shall be addressed to the Board's Executive Secretary and sent to: ftz@trade.gov. The closing period for their receipt is April 6, 2020. Rebuttal comments in response to material submitted during the foregoing period may be submitted during the subsequent 15-day period to April 21, 2020.

A copy of the application will be available for public inspection in the “Reading Room” section of the Board's website, which is accessible via www.trade.gov/ftz.

For further information, contact Elizabeth Whiteman at Elizabeth.Whiteman@trade.gov or (202) 482-0473.

Dated: February 18, 2020.
Andrew McGilvray,
Executive Secretary.

[FR Doc. 2020-03816 Filed 2-25-20; 8:45 am]

BILLING CODE 3510-DS-P